DEPARTMENT OF ENERGY

Federal Energy Regulatory Commission

[Docket No. AC21-158-000]

Edison Electric Institute, American Gas Association; Notice of Filing

Take notice that on September 2, 2021, the Edison Electric Institute and the American Gas Association (collectively, the Associations) submitted a request to extend for an additional six months, until March 31, 2022, the temporary waiver allowing jurisdictional entities to elect a temporary modification of the formula prescribed by the Commission's Uniform System of Accounts for calculating the Allowance for Funds Used During Construction, in response to the ongoing impacts of the COVID-19 emergency.¹

¹ See the White House, A Letter on the Continuation of the National Emergency Concerning the Coronavirus Disease 2019 (COVID-19) Pandemic (Feb. 24, 2021), A Letter on the Continuation of the National Emergency Concerning the Coronavirus Disease 2019 (COVID-19) Pandemic | The White House.

Any person desiring to intervene or to protest this filing must file in accordance with Rules 211 and 214 of the Commission's Rules of Practice and Procedure (18 CFR 385.211 or 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Comment Date: 5 p.m. Eastern Time on September 15, 2021.

Dated: September 8, 2021.
Kimberly D. Bose,
Secretary.

[FR Doc. 2021-19780 Filed 9-13-21; 8:45 am]

BILLING CODE 6717-01-P